BROADCASTING BOARD OF GOVERNORS

Government in the Sunshine Act Meeting Notice

DATE AND TIME: Friday, June 3, 2011; 9:a.m.

PLACE: Broadcasting Board of Governors, 330 Independence Ave., SW., Washington, DC 20237.

SUBJECT: Notice of Meeting of the Broadcasting Board of Governors.

SUMMARY: The Broadcasting Board of Governors (BBG) will meet at the time and location listed above. The BBG will, among other things, consider two resolutions honoring employees for their service, consider a resolution to award and present David Burke Distinguished Journalism Awards, and receive and consider a report from the Governance Committee regarding reforming the Agency's management structure. Board members will also report on the state of U.S. International Broadcasting (USIB), Board efforts to reform USIB, and the BBG's year-long strategic review. The meeting is open to the public, but due to space limitations advance registration is required. Member of the public seeking to attend the meeting in person must register at http://bbg.eventbrite.com/ by June 1. This event can also be viewed live and on demand at BBG's public Web site at http://www.bbg.gov.

CONTACT PERSON FOR MORE INFORMATION: Persons interested in obtaining more information should contact Paul Kollmer-Dorsey at (202) 203-4545.

Paul Kollmer-Dorsey,
Deputy General Counsel.

[FR Doc. 2011-13580 Filed 5-26-11; 4:15 pm]

BILLING CODE 8610-01-P